Proclamation 9528 of October 21, 2016

United Nations Day, 2016

By the President of the United States of America

A Proclamation

Seventy-one years ago, after rolling back a tide of tyranny that threatened Europe and the world, members of the international community came together to sign the United Nations Charter—advancing a promise to replace the ravages of war with the possibilities of diplomacy. On United Nations Day, we reflect on the progress we have made in the time since, resolve to carry this progress forward, and reaffirm our commitment to international cooperation rooted in the rights and responsibilities of nations across the globe.

Today, because of the international order the United Nations has helped anchor for more than seven decades, we live in a global community that, together, has overcome the greatest financial crisis of our time, lifted billions of people out of poverty, promoted the emergence of more democracies, and taken meaningful steps toward leaving our children with a world that is safer, cleaner, and more stable. Yet the same forces of integration that have helped forge closer ties and stronger partnerships among the world's nations also have exposed deep fault lines that we must address. In too many places around the world, perpetrators of atrocities go unpunished and those who violate international law face no consequences. Climate change remains a serious threat—even after we officially crossed the threshold for the Paris Agreement to take effect earlier this month. Too many governments still silence journalists, quash dissent, and censor vital flows of information. And in camps and cities around the world, families live as refugees, surviving on aid and the compassion of others. These issues present crises of our shared security and challenges to our international system in which all nations must share in our collective responsibilities. Our world is too small, and our destinies too intertwined, for us not to see ourselves in one another. By upholding the values upon which the United Nations was founded—pluralism, diversity, human rights, and togetherness—we can ensure we pass these tests of our common humanity. And by continuing to build a more capable and effective United Nations, we strengthen the world's capacity to respond to global crises, keep peace in fragile societies, and tackle unprecedented humanitarian challenges.

The international community relies on the United Nations today more than ever before. Now in its eighth decade, this institution—and those selfless individuals who devote their lives to sustaining it—is vital to our mission of shaping a better world: one defined by cooperation over confrontation, a shared sense of purpose, and the understanding that the future of a child in America is inextricably linked to that of a child in Afghanistan. On this day, let us pay tribute to the staff of the United Nations, particularly the more than 100,000 uniformed personnel serving in peacekeeping missions, for their selfless service to the cause of promoting international peace and prosperity, and as citizens of the world, let us renew our shared commitment to forging a brighter tomorrow for all.

NOW, THEREFORE, I, BARACK OBAMA, President of the United States of America, by virtue of the authority vested in me by the Constitution and the laws of the United States, do hereby proclaim October 24, 2016, as United Nations Day. I urge the Governors of the 50 States, and the officials of all other areas under the flag of the United States, to observe United Nations Day with appropriate ceremonies and activities.

IN WITNESS WHEREOF, I have hereunto set my hand this twenty-first day of October, in the year of our Lord two thousand sixteen, and of the Independence of the United States of America the two hundred and forty-first.

[FR Doc. 2016-26071

Filed 10-25-16; 11:15 am]

Billing code 3295-F7-P